DEPARTMENT OF ENERGY

Federal Energy Regulatory Commission

Combined Notice of Filings #2

Take notice that the Commission received the following exempt wholesale generator filings:

Docket Numbers: EG25-43-000.

Applicants: Wild Plains Wind Project, LLC.

Description: Wild Plains Wind Project, LLC submits Amendment of Exempt Wholesale Generator Status Notice of Self-certification and Request for Shortened Comment Period.

Filed Date: 1/10/25.

Accession Number: 20250110-5372.

Comment Date: 5 p.m. ET 1/17/25.

Docket Numbers: EG25-70-000.

Applicants: Rio Lago Solar, LLC.

Description: Rio Lago Solar, LLC submits Notice of Self-Certification of Exempt Wholesale Generator Status.

Filed Date: 12/20/24.

Accession Number: 20241220-5531.

Comment Date: 5 p.m. ET 1/31/25.

Take notice that the Commission received the following electric rate filings:

Docket Numbers: ER18-730-004.

Applicants: Linden VFT, LLC.

Description: Amendment to Transmission Scheduling Rights Purchase Agreement and Request for Confidential Treatment of Linden VFT, LLC.

Filed Date: 1/10/25.

Accession Number: 20250110-5317.

Comment Date: 5 p.m. ET 1/31/25.

Docket Numbers: ER25-895-001.

Applicants: BOCA bn, LLC.

Description: Tariff Amendment: Errata Amendment to MBR Filing ER25-895 to be effective 1/24/2025.

Filed Date: 1/10/25.

Accession Number: 20250110-5288.

Comment Date: 5 p.m. ET 1/31/25.

Docket Numbers: ER25-902-000.

Applicants: PJM Interconnection, L.L.C.

Description: § 205(d) Rate Filing: Original GIA Service Agreement No. 7461; Project Identifier No. AG1-156 to be effective 12/12/2024.

Filed Date: 1/10/25.

Accession Number: 20250110-5297.

Comment Date: 5 p.m. ET 1/31/25.

Docket Numbers: ER25-903-000.

Applicants: PJM Interconnection, L.L.C.

Description: § 205(d) Rate Filing: Original CSA, SA No. 7456; Project Identifier No. AE2-048 to be effective 12/11/2024.

Filed Date: 1/10/25.

Accession Number: 20250110-5314.

Comment Date: 5 p.m. ET 1/31/25.

Docket Numbers: ER25-904-000.

Applicants: Georgia Power Company.

Description: Initial rate filing: Pineview Affected System Construction Agreement Filing to be effective 1/10/2025.

Filed Date: 1/10/25.

Accession Number: 20250110-5319.

Comment Date: 5 p.m. ET 1/31/25.

Docket Numbers: ER25-905-000.

Applicants: BCD 2024 Fund 4 Lessee, LLC.

Description: Tariff Amendment: BCD 2024 Fund 4 Lessee, LLC Notice of Cancellation of MBR Tariff to be effective 1/11/2025.

Filed Date: 1/10/25.

Accession Number: 20250110-5331.

Comment Date: 5 p.m. ET 1/31/25.

Docket Numbers: ER25-906-000.

Applicants: ISO New England Inc., The Connecticut Light and Power Company.

Description: ISO New England, Inc. and Eversource Energy Service Company submits a Notice of Termination of Small Generator Interconnection Agreement of the ISO-NE's OATT.

Filed Date: 1/10/25.

Accession Number: 20250110-5341.

Comment Date: 5 p.m. ET 1/31/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 10, 2025.
Carlos D. Clay,
Acting Deputy Secretary.

[FR Doc. 2025-00990 Filed 1-15-25; 8:45 am]

BILLING CODE 6717-01-P